DEPARTMENT OF ENERGY

Federal Energy Regulatory Commission

[Docket No. RP99-518-048]

PG&E Gas Transmission, Northwest Corporation; Notice of Tariff Filing

August 25, 2003.

Take notice that on August 15, 2003, PG&E Gas Transmission, Northwest Corporation (GTN) tendered for filing to be part of its FERC Gas Tariff, Second Revised Volume No. 1-A, Second Revised Sheet No. 21B, with an effective date of September 14, 2003.

GTN states that it is submitting Second Revised Sheet No. 21B in order to establish negotiated rate tariff language that it expects will be utilized in conjunction with future negotiated rate transactions for purposes of establishing a value for fuel gas that is retained in-kind by the pipeline.

GTN further states that a copy of this filing has been served on GTN's jurisdictional customers and interested state regulatory agencies.

Any person desiring to protest said filing should file a protest with the Federal Energy Regulatory Commission, 888 First Street, NE., Washington, DC 20426, in accordance with § 385.211 of the Commission's Rules and Regulations. All such protests must be filed in accordance with the protest date below. Protests will be considered by the Commission in determining the appropriate action to be taken, but will not serve to make protestants parties to the proceedings. This filing is available for review at the Commission in the Public Reference Room or may be viewed on the Commission's Web site at http://www.ferc.gov using the eLibrary (FERRIS) link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the eLibrary (e-Filing) link.

Protest Date: August 29, 2003.

Linda Mitry,
Acting Secretary.

[FR Doc. 03-22223 Filed 8-29-03; 8:45 am]

BILLING CODE 6717-01-P